DEPARTMENT OF HEALTH AND HUMAN SERVICES

Agency for Healthcare Research and Quality

Notice of Meetings

AGENCY: Agency for Healthcare Research and Quality (AHRQ), HHS.

ACTION: Notice of five AHRQ subcommittee meetings.

SUMMARY: The subcommittees listed below are part of AHRQ's Health Services Research Initial Review Group Committee. Grant applications are to be reviewed and discussed at these meetings. These meetings will be closed to the public in accordance with 5 U.S.C. App. 2 section 10(d),'5 U.S.C. section 552b(c)(4), and 5 U.S.C. section 552b(c)(6).

DATES: See below for dates of meetings:

1. Health Care Research Training

Date: October 11-12, 2012 (Open from 8:30 a.m. to 8:45 a.m. on October 11 and closed for remainder of the meeting)

2. Healthcare Effectiveness and Outcomes Research

Date: October 16-17, 2012 (Open from 8:30 a.m. to 8:45 a.m. on October 16 and closed for remainder of the meeting)

3. Health Systems and Value Research

Date: October 24, 2012 (Open from 8:30 a.m. to 8:45 a.m. on October 24 and closed for remainder of the meeting)

4. Healthcare Information Technology Research

Date: October 25, 2012 (Open from 8:30 a.m. to 8:45 a.m. on October 25 and closed for remainder of the meeting)

5. Healthcare Safety and Quality Improvement Research

Date: October 31, 2012 (Open from 8:30 a.m. to 8:45 a.m. on October 31 and closed for remainder of the meeting)

ADDRESSES: The five meetings will take place in the same location:

Hyatt Regency Hotel Bethesda,

One Metro Center,

Bethesda, MD 20814.

FOR FURTHER INFORMATION CONTACT: (To obtain a roster of members, agenda or minutes of the non-confidential portions of the meetings.)

Mrs. Bonnie Campbell, Committee Management Officer, Office of Extramural Research Education and Priority Populations, AHRQ 540, Gaither Road, Suite 2000, Rockville, Maryland 20850, Telephone (301) 427-1554.

SUPPLEMENTARY INFORMATION: In accordance with section 10 (a)(2) of the Federal Advisory Committee Act (5 U.S.C. App. 2), AHRQ announces meetings of the scientific peer review groups listed above, which are subcommittees of AHRQ's Health Services Research Initial Review Group Committee. The subcommittee meetings will be closed to the public in accordance with the provisions set forth in 5 U.S.C. App. 2 section 10(d), 5 U.S.C. 552b(c)(4), and 5 U.S.C. 552b(c)(6). The grant applications and the discussions could disclose confidential trade secrets or commercial property such as patentable material, and personal information concerning individuals associated with the grant applications, the disclosure of which would constitute a clearly unwarranted invasion of personal privacy.

Agenda items for these meetings are subject to change as priorities dictate.

Dated: September 6, 2012.
Carolyn M. Clancy,
Director.

[FR Doc. 2012-23164 Filed 9-19-12; 8:45 am]

BILLING CODE 4160-90-M